DEPARTMENT OF THE INTERIOR

Fish and Wildlife Service

50 CFR Part 17

RIN 1018-AE30

Endangered and Threatened Wildlife and Plants; Reopening of Comment Period and Notice of Availability of Draft Economic Analysis on Proposed Critical Habitat Determination for the Tidewater Goby

AGENCY: Fish and Wildlife Service, Interior.

ACTION: Proposed rule; reopening of comment period and notice of availability of draft economic analysis.

SUMMARY: The U.S. Fish and Wildlife Service announces the availability of a draft economic analysis of the proposed designation of critical habitat for the tidewater goby (Eucyclogobius newberryi). We also provide notice of the reopening of the comment period for the proposal to allow all interested parties to submit written comments on the proposal and on the draft economic analysis. Comments previously submitted need not be resubmitted as they will be incorporated into the public records as a part of this reopening and will be fully considered in the final rule.

DATES: The original comment period on the critical habitat proposal closed on October 4, 1999. The first reopened comment period closed on November 30, 1999. The comment period is again reopened and we will accept comments until July 28, 2000. Comments must be received by the closing date. Any comments that are received after the closing date may not be considered in the final decision on this proposal.

ADDRESSES: Copies of the draft economic analysis are available on the Internet at “http://pacific.fws.gov/crithab/tg” or by contacting the U.S. Fish and Wildlife Service, Carlsbad Fish and Wildlife Office, 2730 Loker Avenue West, Carlsbad, California, 92008 (telephone 760-431-9440; facsimile 760-431-9618). Written comments should be sent to the Field Supervisor. You may also send comments by electronic mail (e-mail) to “fw1cfwogoecan@r1.fws.gov.” Please submit comments in ASCII file format and avoid the use of special characters and encryption. Please include “Attn: RIN 1018-AE30” and your name and return address in your e-mail message. Comments and materials received will be available for public inspection, by appointment, during normal business hours at the above Service address.

FOR FURTHER INFORMATION CONTACT: Glen Knowles, Fish and Wildlife Biologist, Carlsbad Fish and Wildlife Office, at the above address (telephone 760-431-9440; facsimile 760-431-9618).

SUPPLEMENTARY INFORMATION:

Background

The tidewater goby is a small, grayish brown fish approximately 2 inches long and which lives for about one year. It occurs in coastal brackish-water habitats such as lagoons, tidal bays, and estuaries of rivers and streams along the California coastline. This fish is threatened by habitat loss and degradation, predation by non-native species, and extreme weather and streamflow conditions. On August 3, 1999, the Fish and Wildlife Service published a rule proposing critical habitat for the tidewater goby Eucyclogobius newberryi in the Federal Register (64 FR 42250), a species Federally listed as endangered throughout its range. We proposed designation of approximately 11.8 miles of rivers, streams, and estuaries as critical habitat for the tidewater goby pursuant to the Endangered Species Act of 1973, as amended (Act). Proposed critical habitat is in Orange and San Diego counties, California, as described in the proposed rule.

Section 4(b)(2) of the Act requires that the Secretary shall designate or revise critical habitat based upon the best scientific data available and after taking into consideration the economic impact of specifying any particular area as critical habitat. Based upon the previously published proposal to designate critical habitat for the tidewater goby and comments received during previous comment periods, we have conducted a draft economic analysis of the proposed critical habitat designation. The draft economic analysis is available at the above Internet and mailing address. In order to accept the best and most current scientific data regarding the critical habitat proposal and the draft economic analysis of the proposal, we reopen the comment period at this time. We will accept written comments during this reopened comment period. Previously submitted oral or written comments on this critical habitat proposal need not be resubmitted. The current comment period on this proposal closes on July 28, 2000. Written comments may be submitted to the Service office in the ADDRESSES section.

Author: The primary author of this notice is Glen Knowles (see ADDRESSES section).

Authority: The authority for this action is the Endangered Species Act of 1973 (16 U.S.C. 1531 et seq.).

Dated: June 19, 2000.
Don W. Weathers,
Acting Regional Director, Region 1, Portland, Oregon.

[FR Doc. 00-16276 Filed 6-27-00; 8:45 am]

BILLING CODE 4310-55-P